DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: October 17, 2007, 8:30 a.m. to 5 p.m.; October 18, 2007, 8:30 a.m. to 5 p.m.

Place: Royal Plaza, 1905 Hotel Plaza Boulevard, Lake Buena Vista, Florida 32830, Telephone: (407) 828-2828, Fax: (407) 827-6338.

Status: The meeting will be open to the public.

Purpose: The purpose of the meeting is to discuss services and issues related to the health of migrant and seasonal farmworkers and their families and to formulate recommendations for the Secretary of Health and Human Services.

Agenda: The agenda includes an overview of the Council's general business activities. The Council will also hear presentations from experts on farmworker issues, including the status of farmworker health at the local and national levels.

In addition, the Council will be holding a public hearing at which migrant farmworkers, community leaders, and providers will have the opportunity to testify before the Council regarding matters that affect the health of migrant farmworkers. The hearing is scheduled for Thursday, October 18 from 9 a.m. to 12 p.m., at the Royal Plaza.

The Council meeting is being held in conjunction with the 20th Annual East Coast Migrant Stream Forum sponsored by the North Carolina Community Health Center Association, which is being held in Lake Buena Vista, Florida, October 18-20, 2007.

Agenda items are subject to change as priorities indicate.

For Further Information Contact: Gladys Cate, Office of Minority and Special Populations, Bureau of Primary Health Care, Health Resources and Services Administration, 5600 Fishers Lane, Maryland 20857; telephone (301) 594-0367.

Dated: September 4, 2007.
Alexandra Huttinger,
Acting Director, Division of Policy Review and Coordination.

[FR Doc. E7-17825 Filed 9-10-07; 8:45 am]

BILLING CODE 4165-15-P